DEPARTMENT OF LABOR

Bureau of International Labor Affairs; U.S. National Administrative Office; National Advisory Committee for Labor Provisions of U.S. Free-trade Agreements; Notice of Open Meeting

AGENCY: Office of the Secretary, Labor.

ACTION: Notice of open meeting November 14, 2005.

SUMMARY: Pursuant to the Federal Advisory Committee Act (Pub. L. 92-463), the Office of Trade Agreement Implementation (OTAI) gives notice of a meeting of the National Advisory Committee for Labor Provisions of U.S. Free-trade Agreements, which was established by the Secretary of Labor.

The Committee was established to provide advice to the U.S. Department of Labor on matters pertaining to the implementation and further elaboration of the North American Agreement on Labor Cooperation (NAALC), the labor side accord to the North American Free Trade Agreement (NAFTA), and the labor chapters of free-trade agreements. The Committee is authorized under NAALC and the free-trade agreements.

The Committee consists of twelve independent representatives drawn from among labor organizations, business and industry, educational institutions, and the general public.

DATES: The Committee will meet on November 14, 2005 from 9 a.m. to 1 p.m.

ADDRESSES: U.S. Department of Labor, 200 Constitution Avenue, NW., Executive Conference Room at 4 C-5521 (Center Conference Rooms C 5515), Washington, DC 20210. The meeting is open to the public on a first-come, first served basis.

FOR FURTHER INFORMATION CONTACT: Dr. Peter Accolla, designated Federal Officer, Office of Trade Agreement Implementation, Bureau of International Labor Affairs, U.S. Department of Labor, 200 Constitution Avenue, NW., Room S-5205, Washington, DC 20210. Telephone 202-693-4900 (this is not a toll free number).

SUPPLEMENTARY INFORMATION: Please refer to the notice published in the Federal Register on December 23, 2004 (69 FR 77128) for supplementary information.

Signed at Washington, DC, on October 6, 2005.
Dr. Peter Accolla,
Acting Director, U.S. National Administrative Office.

[FR Doc. 05-20511 Filed 10-12-05; 8:45 am]

BILLING CODE 4510-28-P